SOCIAL SECURITY ADMINISTRATION

20 CFR Part 404

[Regulations No. 4]

RIN 0960-AF76

Extension of Expiration Date for the Respiratory System Listings

AGENCY: Social Security Administration (SSA).

ACTION: Final rule.

SUMMARY: We use the criteria in the Listing of Impairments (the Listings) to evaluate claims under the Social Security and Supplemental Security Income (SSI) programs. This final rule extends until July 2, 2003, the date on which the respiratory system listings will no longer be effective. We have made no revisions to the medical criteria in these listings; they remain the same as they now appear in the Code of Federal Regulations. This extension will ensure that we continue to apply these criteria when you file for benefits based on disability under title II and title XVI of the Social Security Act (the Act).

EFFECTIVE DATE: This final regulation is effective June 28, 2002.

FOR FURTHER INFORMATION CONTACT: Jane Deweib, Social Insurance Specialist, Office of Disability, Social Security Administration, 3-A-8 Operations Building, 6401 Security Boulevard, Baltimore, MD 21235-6401, (410) 965-9878 or TTY (410) 966-5609. For information on eligibility or filing for benefits, call our national toll-free number, 1-800-772-1213 or TTY 1-800-325-0778, or visit our Internet web site, Social Security Online, at http://www.ssa.gov.

Electronic Version: The electronic file of this document is available on the date of publication in the Federal Register at http://access.gpo.su_docs/aces/aces140.html. It is also available on the Internet site for SSA (i.e., Social Security Online) at http:/www.ssa.gov/regulations.

SUPPLEMENTARY INFORMATION: There are listings for adults (part A) and for children (part B). We apply the medical criteria in Part A when we assess your claim if you are an adult, i.e., a person age 18 or over. If you are a child, we first use the criteria in Part B. If the B criteria do not apply, and the specific disease process(es) has a similar effect on adults and children, we then use the criteria in Part A. (See Secs. 404.1525, 404.1526, 416.925 and 416.926.) We use the criteria in the listings only to make favorable findings of disability. We never deny a claim or find that disability has ceased because your impairment(s) does not meet or medically equal a listing.

In this final rule, we are extending until July 2, 2003, the date on which the respiratory system listings (3.00 and 103.00) will no longer be effective to allow sufficient time for us to revise them.

As a result of medical advances in disability evaluation and treatment, and program experience, we should periodically review and update the Listings. We are extending the date for the respiratory system listings because we will not complete revised listings criteria by the current expiration date. We are currently in the process of revising the respiratory system listings (3.00 and 103.00) and intend to publish proposed and final rules for them in a timely manner, with all revisions complete prior to the new extension date.

We last published final rules revising the respiratory system listings in the Federal Register on October 7, 1993 (58 FR 52346), at which time we indicated that due to medical advances in disability evaluation and treatment and program experience we would periodically review and update the listings. The current listings for the evaluation of respiratory system impairments will no longer be effective on July 2, 2002. Until we publish revised language for the respiratory system listings, the current listings language remains valid for our program purposes.

Regulatory Procedures

Justification for Final Rule

Pursuant to section 702(a)(5) of the Social Security Act, 42 U.S.C. 902(a)(5), we follow the Administrative Procedure Act (APA) rulemaking procedures specified in 5 U.S.C. 553 in the development of our regulations. The APA provides exceptions to its notice and public comment procedures when an agency finds there is good cause for dispensing with such procedures on the basis that they are impracticable, unnecessary, or contrary to the public interest. We have determined that, under 5 U.S.C. 553(b)(B), good cause exists for dispensing with the notice and public comment procedures for this rule. Good cause exists because this final rule only extends the date on which the respiratory system listings will no longer be effective. It makes no substantive changes to those listings. The current regulations expressly provide that listings may be extended, as well as revised and promulgated again. Therefore, we have determined that opportunity for prior comment is unnecessary, and we are issuing this regulation as a final rule.

In addition, we find good cause for dispensing with the 30-day delay in the effective date of a substantive rule provided by 5 U.S.C. 553(d). As explained above, we are not making any substantive changes in the respiratory system listings. However, without an extension of the expiration dates for these listings, we will lack regulatory criteria for assessing respiratory impairments at the third step of the sequential evaluation process after the current expiration date of these listings. In order to ensure that we continue to have regulatory criteria for assessing respiratory impairments under these listings, we find that it is in the public interest to make this rule effective on publication.

Executive Order 12866

The Office of Management and Budget (OMB) has reviewed this final rule in accordance with Executive Order (E.O.) 12866, as amended by E.O. 13258. We have also determined that this final rule meets the plain language requirement of E.O. 12866 as amended by E.O. 13258.

Regulatory Flexibility Act

We certify that this final rule will not have a significant economic impact on a substantial number of small entities because it affects only individuals. Thus, a regulatory flexibility analysis as provided in the Regulatory Flexibility Act, as amended, is not required.

Paperwork Reduction Act

This final rule imposes no reporting/recordkeeping requirements necessitating clearance by OMB.

(Catalog of Federal Domestic Assistance Program Nos. 96.001, Social Security-Disability Insurance; 96.002, Social Security-Retirement Insurance; 96.004, Social Security-Survivors Insurance; 96.006, Supplemental Security Income)

List of Subjects in 20 CFR Part 404

Administrative practice and procedure, Blind, Disability benefits, Old-Age, Survivors and Disability Insurance, Reporting and recordkeeping requirements, Social Security.

Dated: May 30, 2002.
JoAnne B. Barnhart,
Commissioner of Social Security.

For the reasons set forth in the preamble, part 404, subpart P, chapter III of title 20 of the Code of Federal Regulations is amended as set forth below.

PART 404—FEDERAL OLD-AGE, SURVIVORS AND DISABILITY INSURANCE (1950— )

Subpart P—[Amended]

1. The authority citation for subpart P of part 404 continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189.

2. Appendix 1 to subpart P of part 404 is amended by revising item 4 of the introductory text before Part A to read as follows:

Appendix 1 to Subpart P of Part 404—Listing of Impairments

* * * * *

4. Respiratory System (3.00 and 103.00): July 2, 2003.

* * * * *

[FR Doc. 02-16336 Filed 6-27-02; 8:45 am]

BILLING CODE 4191-02-P